DEPARTMENT OF DEFENSE

Department of the Navy

United States Naval Academy Board of Visitors; Notice of Federal Advisory Committee Meeting

AGENCY: United States Naval Academy Board of Visitors, Department of the Navy, Department of Defense.

ACTION: Notice of Federal Advisory Committee meeting.

SUMMARY: The Department of Defense (DoD) is publishing this notice to announce that the following Federal Advisory Committee meeting of the United States Naval Academy Board of Visitors will take place.

DATES: The open session of the meeting will be held on April 8, 2019, from 9:00 a.m. to 11:15 a.m. The executive session held from 11:15 a.m. to 12:00 p.m. will be the closed portion of the meeting.

ADDRESSES: The meeting will be held at the United States Naval Academy in Annapolis, Maryland.

FOR FURTHER INFORMATION CONTACT: CAPT George Lang, USN, 410-293-1500 (Voice), 410-293-2303 (Facsimile), glang@usna.edu (Email). Mailing address is U.S. Naval Academy, 121 Blake Road, Annapolis, MD 21402. Website: https://www.usna.edu/PAO/Superintendent/bov.php. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

This notice of meeting is provided per the Federal Advisory Committee Act, as amended (5 U.S.C. App.). The executive session of the meeting from 11:15 a.m. to 12:00 p.m. on April 8, 2019, will consist of discussions of new and pending administrative or minor disciplinary infractions and non-judicial punishments involving midshipmen attending the Naval Academy to include but not limited to, individual honor or conduct violations within the Brigade, the disclosure of which would constitute a clearly unwarranted invasion of personal privacy. For this reason, the executive session of this meeting will be closed to the public, as the discussion of such information cannot be adequately segregated from other topics, which precludes opening the executive session of this meeting to the public. Accordingly, the Department of the Navy/Assistant for Administration has determined in writing that the meeting shall be partially closed to the public because the discussions during the executive session from 11:15 a.m. to 12:00 p.m. will be concerned with matters protected under sections 552b(c)(5), (6), and (7) of title 5, United States Code. (Authority: 5 U.S.C. 552b)

Purpose of the Meeting: The U.S. Naval Academy Board of Visitors will meet to make such inquiry, as the Board shall deem necessary, into the state of morale and discipline, the curriculum, instruction, physical equipment, fiscal affairs, and academic methods of the Naval Academy.

Agenda: 0830-0900 Assemble/Coffee (OPEN to public) 0900 Call to Order (OPEN to public) 0900-1100 Business Session (OPEN to public) 1100-1115 Break (OPEN to public) 1115-1200 Executive Session (CLOSED to public) Meeting Accessibility: The meeting will be handicap accessible.

Written Statements: N/A.

Authority: 5 U.S.C. 552b.

Dated: January 28, 2019.
M.S. Werner,
Commander, Judge Advocate General's Corps, U.S. Navy, Federal Register Liaison Officer.

[FR Doc. 2019-00387 Filed 1-30-19; 8:45 am]

BILLING CODE 3810-FF-P